BROADCASTING BOARD OF GOVERNORS

Government in the Sunshine Act Meeting Notice

DATE AND TIME: Wednesday, March 14, 2018, 1:00 p.m. ET.

PLACE: Cohen Building, Room 3321, 330 Independence Ave. SW, Washington, DC 20237.

SUBJECT: Notice of Meeting of the Broadcasting Board of Governors.

SUMMARY: The Broadcasting Board of Governors (Board) will be meeting at the time and location listed above. The Board will vote on a consent agenda consisting of the minutes of its November 15, 2017 meeting, a resolution honoring the 75th anniversary of Voice of America's (VOA) Serbian Service, a resolution honoring the 60th anniversary of VOA's Bangla Service, a resolution honoring the fifth anniversary of VOA's Bambara Service, a resolution honoring the 65th anniversary of Radio Free Europe/Radio Liberty's (RFE/RL) Azerbaijani Service—Azadliq Radiosu, a resolution honoring the 65th anniversary of RFE/RL's Russian Service, and a resolution honoring the 65th anniversary of RFE/RL's Turkmen Service. The Board will receive a report from the Chief Executive Officer and Director of BBG.

This meeting will be available for public observation via streamed webcast, both live and on-demand, on the agency's public website at www.bbg.gov. Information regarding this meeting, including any updates or adjustments to its starting time, can also be found on the agency's public website.

The public may also attend this meeting in person at the address listed above as seating capacity permits. Members of the public seeking to attend the meeting in person must register at https://bbgboardmeetingnmarch2018.eventbrite.com by 12:00 p.m. (ET) on March 13. For more information, please contact BBG Public Affairs at (202) 203-4400 or by email at pubaff@bbg.gov.

CONTACT PERSON FOR MORE INFORMATION: Persons interested in obtaining more information should contact Oanh Tran at (202) 203-4545.

Oanh Tran,
Managing Director.

[FR Doc. 2018-04917 Filed 3-7-18; 4:15 pm]

BILLING CODE 8610-01-P